DEPARTMENT OF ENERGY

Federal Energy Regulatory Commission

[Docket No. CP03-331-000]

EnergyNorth Natural Gas, Inc.; Notice of Application

July 14, 2003.

Take notice that on July 3, 2003, EnergyNorth Natural Gas, Inc. (EnergyNorth), 1260 Elm Street, Manchester, New Hampshire 03105, a subsidiary of KeySpan Corporation, filed in Docket No. CP03-331-0000, an application pursuant to section 7(f) of the Natural Gas Act (NGA) for a service area determination, a declaration that EnergyNorth qualifies as a local distribution company (LDC) and a waiver of the regulatory requirements under the NGA and the Natural Gas Policy Act (NGPA), all as more fully set forth in the application. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659.

EnergyNorth requests a service area determination to include its service area in New Hampshire as well as that of Colonial Gas Company (Colonial), also a subsidiary of KeySpan, across the state border in Massachusetts. EnergyNorth requests the expanded service area, in order to periodically access a new source of gas supply from Colonial. EnergyNorth states that the enlarged service area would enable it to enlarge, extend and interconnect its distribution facilities with those of Colonial without losing its status as a local distribution customer. EnergyNorth proposes to construct and operate interconnecting facilities consisting of a meter and 1,285 feet of 4-inch diameter distribution pipeline to connect its facilities with those of Colonial. EnergyNorth states that it meets the four criteria for a service area determination, that it is a local distribution company (LDC) serving customers within a single state, that it makes only incidental sales for resale, that its operations are regulated by the appropriate state authority, that it does not have an extensive distribution system and that its operations do not have a significant impact on neighboring distribution companies. EnergyNorth asserts that the service area determination would ensure against disruptions to EnergyNorth's customers in the event of decreases in pressure and would enhance the reliability of EnergyNorth's system. EnergyNorth explains that the proposed service area determination would not change EnergyNorth's services or operations. EnergyNorth also requests a declaration that it qualifies as an LDC for the purposes of section 311 of the NGPA and a waiver of all reporting and accounting requirements applicable to natural gas companies under the NGA and the NGPA.

Any questions regarding this amendment should be directed to Thomas O'Neill at (617)723-5512, or Kenneth T. Maloney at (202)223-8890.

There are two ways to become involved in the Commission's review of this project. First, any person wishing to obtain legal status by becoming a party to the proceedings for this project should, on or before the comment date below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link.

Comment Date: August 4, 2003.

Magalie R. Salas,
Secretary.

[FR Doc. 03-18309 Filed 7-17-03; 8:45 am]

BILLING CODE 6717-01-P